DEPARTMENT OF HEALTH AND HUMAN SERVICES

Administration for Children and Families

Submission for Office of Management and Budget (OMB) Review; Temporary Assistance for Needy Families (TANF) Data Reporting for Work Participation (OMB #0970-0338)

AGENCY: Office of Family Assistance; Administration for Children and Families; United States Department of Health and Human Services.

ACTION: Request for public comments.

SUMMARY: The Administration for Children and Families (ACF) is requesting to extend approval of the Temporary Assistance for Needy Families (TANF) Data Reporting for Work Participation, with proposed revisions. Revisions are intended to improve the clarity of the instructions, streamline reporting, and ensure all instructions are up-to-date.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review-Open for Public Comments” or by using the search function. You can also obtain copies of the proposed collection of information by emailing infocollection@acf.hhs.gov. Identify all emailed requests by the title of the information collection.

SUPPLEMENTARY INFORMATION:

Description: This request includes the following information collections: work verification procedures, the Caseload Reduction Documentation Process, the TANF Data Report, the Separate State Program (SSP)-Maintenance of Effort (MOE) Data Report, and TANF sampling instructions. The data and information from these reports and processes are used-and will continue to be used-for program analysis and oversight, including the calculation and administration of the work participation rate and associated penalties. Congress provides federal funds to operate TANF programs in the states, the District of Columbia, Guam, Puerto Rico, the U.S. Virgin Islands, and for approved federally recognized tribes and Alaskan Native Villages. We are proposing to continue the same information collections with only changes to instructions to improve clarity and eliminate data elements and guidance that are no longer relevant. The Work Verification Plan Guidance has been updated to reflect current regulation. The TANF and SSP-MOE Data Report instructions were revised to streamline the data collection, reduce the burden on respondents by eliminating unnecessary data elements, and clarify confusing data elements. The TANF and SSP-MOE Data Report layouts were also updated to reflect the streamlined instructions. The TANF Sample Manual was revised to eliminate outdated and unused sections.

Respondents: The 50 states of the U.S., the District of Columbia, Guam, Puerto Rico, and the U.S. Virgin Islands.

Annual Burden Estimates
Instrument | Total number of respondents | Annual number of responses per respondent | Average burden hours per response | Total annual burden hours
Preparation and Submission of Data Verification Procedures sections 261.60-261.63 | 54 | 1 | 640 | 34,560
Caseload Reduction Documentation Process, ACF-202 sections 261.41 and 261.44 | 54 | 1 | 120 | 6,480
Reasonable Cause/Corrective Compliance Documentation Process sections 262.4, 262.6, and 262.7; section 261.51 | 54 | 2 | 240 | 25,920
TANF Data Report Part 265 | 54 | 4 | 2,100 | 453,600
SSP-MOE Data Report-Part 265 | 29 | 4 | 714 | 82,824
TANF Sampling and Statistical Methods Manual Part 265.5 | 30 | 4 | 48 | 5,760

Estimated Total Annual Burden Hours: 609,144.

Authority: 42 U.S.C. 601, 607, 609, 611, 613, and 1302.

Mary B. Jones,
ACF/OPRE Certifying Officer.

[FR Doc. 2023-20165 Filed 9-18-23; 8:45 am]

BILLING CODE 4184-36-P